FARM CREDIT ADMINISTRATION

12 CFR Parts 614 and 617

RIN 3052-AC04

Loan Policies and Operations; Borrower Rights; Effective Date

AGENCY: Farm Credit Administration.

ACTION: Notice of effective date.

SUMMARY: The Farm Credit Administration (FCA) published a final rule under parts 614 and 617 on March 30, 2004 (69 FR 16455). This final rule clarifies when and how qualified lenders must disclose the effective interest rates and other loan information to borrowers; when and how the cost of Farm Credit System borrower stock must be disclosed to borrowers; and how loan origination charges and other loan information must be disclosed to borrowers. In accordance with 12 U.S.C. 2252, the effective date of the interim final rule is 30 days from the date of publication in the Federal Register during which either or both Houses of Congress are in session. Based on the records of the sessions of Congress, the effective date of the regulations is May 10, 2004.

DATES: Effective Date: The regulation amending 12 CFR parts 614 and 617 published on March 30, 2004 (69 FR 16455) is effective May 10, 2004.

FOR FURTHER INFORMATION CONTACT: Tong-Ching Chang, Senior Policy Analyst, Office of Policy and Analysis, Farm Credit Administration, McLean, VA 22102-5090, (703) 883-4498, TTY (703) 883-4434; or Howard Rubin, Senior Attorney, Office of General Counsel, Farm Credit Administration, McLean, VA 22102-5090, (703) 883-4020, TTY (703) 883-2020.

(12 U.S.C. 2252(a)(9) and (10))

Dated: May 11, 2004.
Jeanette C. Brinkley,
Secretary, Farm Credit Administration Board.

[FR Doc. 04-11024 Filed 5-13-04; 8:45 am]

BILLING CODE 6705-01-P